NUCLEAR REGULATORY COMMISSION

[Docket Nos.: STN 50-456, STN 50-457, STN 50-454, and STN 50-455; NRC-2012-0116]

Exelon Generation Company, LLC, Braidwood Station, Units 1 and 2, and Byron Station, Unit No(s). 1 and 2

AGENCY: Nuclear Regulatory Commission.

ACTION: License amendment application; withdrawal by applicant.

SUMMARY: The U.S. Nuclear Regulatory Commission (NRC) has granted the request of Exelon Generation Company, LLC to withdraw its application dated January 31, 2012, as supplemented by letter dated February 1, 2013, for proposed amendments to Braidwood Station, Units 1 and 2, Facility Operating License No(s). NPF-72 and NPF-77, located in Will County, Illinois and Byron Station, Unit No(s). 1 and 2, Facility Operating License No(s). NPF-37 and NPF-66, located in Ogle County, Illinois. The proposed amendment would have modified the Updated Final Safety Analysis Report (UFSAR) to describe the use of an Auxiliary Feedwater (AF) cross-tie.

DATES: July 16, 2015.

ADDRESSES: Please refer to Docket ID NRC-2012-0116 when contacting the NRC about the availability of information regarding this document. You may obtain publicly-available information related to this document using any of the following methods:

• Federal Rulemaking Web site: Go to http://www.regulations.gov and search for Docket ID NRC-2012-0116. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Joel S. Wiebe, Office of Nuclear Reactor Regulation, U.S. Nuclear Regulatory Commission, Washington, DC 20555-0001; telephone: 301-415-6606; email: Joel.Wiebe@nrc.gov.

SUPPLEMENTARY INFORMATION: The NRC has granted the request of Exelon Generation Company, LLC (the licensee) to withdraw its January 31, 2012, application (ADAMS Accession No. ML12033A023), as supplemented by letter dated February 1, 2013 (ADAMS Accession No. ML13035A017), for proposed amendments to Braidwood Station, Units 1 and 2, Facility Operating License No(s). NPF-72 and NPF-77, located in Will County, Illinois and Byron Station, Unit No(s). 1 and 2, Facility Operating License Nos. NPF-37 and NPF-66, located in Ogle County, Illinois.

The proposed amendment would have modified the Updated Final Safety Analysis Report (UFSAR) to describe the use of an Auxiliary Feedwater (AF) cross-tie. Specifically, this change would have added information to the UFSAR describing the design and shared operation of cross-tie piping between the discharges of the Unit 1 and Unit 2 Train A motordriven AF pumps.

The Commission had previously issued a notice of consideration of issuance of amendment published in the Federal Register on May 29, 2012 (77 FR 31660). However, by letter dated June 3, 2015 (ADAMS Accession No. ML15154B363), the licensee withdrew the proposed change.

Dated at Rockville, Maryland, this day of July 9, 2015.
For the Nuclear Regulatory Commission.
Joel S. Wiebe,
Senior Project Manager, Plant Licensing III-2 and Planning and Analysis Branch, Division of Operating Reactor Licensing, Office of Nuclear Reactor Regulation.

[FR Doc. 2015-17385 Filed 7-15-15; 8:45 am]

BILLING CODE 7590-01-P